DEPARTMENT OF HEALTH AND HUMAN SERVICES

Health Resources and Services Administration

Council on Graduate Medical Education; Notice of Meeting

In accordance with section 10(a)(2) of the Federal Advisory Committee Act (Public Law 92-463), announcement is made of the following National Advisory body scheduled to meet during the month of December 2001:

Name: Council on Graduate Medical Education (COGME).

Date and Time: December 5, 2001, 8:30 a.m.-4:30 p.m., December 6, 2001, 8:30 a.m.-12 p.m.

Place: Holiday Inn, Capitol, Columbia Ballroom, 550 C Street, SW., Washington, DC 20024.

The meeting is open to the public.

Agenda: The agenda for the first day, December 5, will include: Welcome and opening comments from the Acting Administrator, Health Resources and Services Administration; the Associate Administrator for Health Professions; and the Acting Executive Secretary of COGME. There will be a panel of speakers on the topic of “Models of Health Care Delivery.” The afternoon agenda includes a presentation on “Substitutability in the Physician Workforce.” The Council's three workgroups will convene. They are: Workgroup on Diversity, Workgroup on Graduate Medical Education Financing, and Workgroup on Workforce.

The agenda for the second day, December 6, will include reports from the three workgroup chairs. Work will continue on COGME's Final Report. There will be a discussion on plans for future work and new business.

Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857. Telephone (301) 443-6326,

Agenda items are subject to change as priorities dictate.

Dated: November 6, 2001.
Jane M. Harrison,
Director, Division of Policy Review and Coordination.

[FR Doc. 01-28259 Filed 11-9-01; 8:45 am]

BILLING CODE 4165-15-P